DEPARTMENT OF JUSTICE

Antitrust Division

Notice Pursuant to the National Cooperative Research and Production Act of 1993—Technical Association of the Pulp and Paper Industry, Inc.

Notice is hereby given that, on September 20, 2004, pursuant to section 6(a) of the National Cooperative Research and Production Act of 1993, 15 U.S.C. 4301 et seq. (“the Act”), Technical Association of the Pulp and Paper Industry, Inc. (“TAPPI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Technical Association of the Pulp and Paper Industry, Inc., Norcross, GA. The nature and scope of TAPPI's standards development activities are: Testing procedures and related practices used in the measurement, evaluation, and description of pulp, paper, and related products, including raw materials used in their manufacture, use, or in scientific investigations of any such substances.

Dorothy B. Fountain,
Deputy Director of Operations, Antitrust Division.

[FR Doc. 05-1969 Filed 2-1-05; 8:45 am]

BILLING CODE 4410-11-M